DEPARTMENT OF ENERGY

Federal Energy Regulatory Commission

Combined Notice of Filings #1

January 6, 2010.

Take notice that the Commission received the following electric rate filings:

Docket Numbers: ER02-537-027; ER03-983-024; ER07-758-020; ER06-739-024; ER06-738-024; ER07-501-023; ER08-649-016.

Applicants: Cogen Technologies Linden Venture, L.P., Fox Energy Company LLC, Birchwood Power Partners, L.P., Shady Hills Power Company, LLC, East Coast Power Linden Holding, LLC, EFS Parlin Holdings, LLC, Inland Empire Energy Center, LLC.

Description: Notice of Non-Material Changes in Status of East Coast Power Linden Holding, LLC, et al.

Filed Dated: 01/04/2010.

Accession Number: 20100104-5074.

Comment Date: 5 p.m. Eastern Time on Monday, January 25, 2010.

Docket Numbers: ER06-278-005; ER08-654-004.

Applicants: Nevada Hydro Company, Inc.; California Independent System Operator Corporation.

Description: Response of the Nevada Hydro Company, Inc. Request for Clarification.

Filed Dated: 01/05/2010.

Accession Number: 20100105-5022.

Comment Date: 5 p.m. Eastern Time on Tuesday, January 26, 2010.

Docket Numbers: ER06-739-023; ER06-738-023; ER07-501-022; ER08-649-015.

Applicants: Cogen Technologies Linden Venture, L.P., East Coast Power Linden Holding, LLC, Birchwood Power Partners, L.P., EFS Parlin Holdings, LLC.

Description: Notice of Non-Material Change in Status of East Coast Power Linden Holding, LLC, et al.

Filed Dated: 01/04/2010.

Accession Number: 20100104-5072.

Comment Date: 5 p.m. Eastern Time on Monday, January 25, 2010.

Docket Numbers: ER09-408-003.

Applicants: PacifiCorp.

Description: Compliance Filing of PacifiCorp.

Filed Dated: 01/04/2010.

Accession Number: 20100104-5078.

Comment Date: 5 p.m. Eastern Time on Monday, January 25, 2010.

Docket Numbers: ER09-412-010.

Applicants: PJM Interconnection, LLC.

Description: PJM Interconnection, LLC submits Fifth Revised Sheet 572 et al to FERC Electric Tariff, Sixth Revised Volume 1.

Filed Dated: 12/29/2009.

Accession Number: 20091231-0044.

Comment Date: 5 p.m. Eastern Time on Tuesday, January 19, 2010.

Docket Numbers: ER09-1114-002; ER09-1115-002.

Applicants: RRI Energy Services, Inc.; RRI Energy Solutions East, LLC.

Description: Supplement to the December 14, 2009 Category One Request Filing of RRI Energy Services, Inc. and RRI Energy Solutions East, LLC.

Filed Dated: 01/06/2010.

Accession Number: 20100106-5017.

Comment Date: 5 p.m. Eastern Time on Wednesday, January 27, 2010.

Docket Numbers: ER09-1542-001.

Applicants: California Independent System Operator Corporation.

Description: The California Independent System Operator Corporation submits the Second Revised Sheet134 et al to FERC Electric Tariff, Fourth Replacement Volume 11542.

Filed Dated: 12/31/2009.

Accession Number: 20100104-0067.

Comment Date: 5 p.m. Eastern Time on Thursday, January 21, 2010.

Docket Numbers: ER10-517-000.

Applicants: New England Power Pool.

Description: The New England Power Pool Participants Committee submits transmittal letter, counterpart signature pages etc.

Filed Dated: 12/30/2009.

Accession Number: 20091231-0042.

Comment Date: 5 p.m. Eastern Time on Wednesday, January 20, 2010.

Docket Numbers: ER10-519-000.

Applicants: MidAmerican Energy Company.

Description: MidAmerican Energy Company submits Service Agreement for Transmission Operator Services including but not limited to performance of Certain Activities etc.

Filed Dated: 12/30/2009.

Accession Number: 20091231-0041.

Comment Date: 5 p.m. Eastern Time on Wednesday, January 20, 2010.

Docket Numbers: ER10-520-000.

Applicants: PJM Interconnection, LLC.

Description: PJM Interconnection, LLC submits executed version of the revised Wholesale Market Participation Agreement with WM Renewable Energy, LLC et al.

Filed Dated: 12/30/2009.

Accession Number: 20091231-0040.

Comment Date: 5 p.m. Eastern Time on Wednesday, January 20, 2010.

Docket Numbers: ER10-521-000.

Applicants: Southern California Edison Company.

Description: Southern California Edison Company submits revised rate sheet to a letter agreement.

Filed Dated: 12/30/2009.

Accession Number: 20091231-0039.

Comment Date: 5 p.m. Eastern Time on Wednesday, January 20, 2010.

Docket Numbers: ER10-528-001.

Applicants: Portland General Electric Company.

Description: Portland General Electric Company submits the errata and the revised pages for Attachments 9 and 10 to the 12/29/09 filing.

Filed Dated: 12/31/2009.

Accession Number: 20100104-0061.

Comment Date: 5 p.m. Eastern Time on Thursday, January 21, 2010.

Docket Numbers: ER10-534-000.

Applicants: Southwest Power Pool, Inc.

Description: Southwest Power Pool, Inc. submits an executed Large Generator Interconnection Agreement with Shooting Star Power Partners, LLC et al.

Filed Dated: 12/31/2009.

Accession Number: 20100104-0072.

Comment Date: 5 p.m. Eastern Time on Thursday, January 21, 2010.

Docket Numbers: ER10-535-000.

Applicants: Puget Sound Energy, Inc.

Description: Puget Sound Energy Inc. submits an Interconnection and Operating Agreement effective 1/1/2010.

Filed Dated: 12/31/2009.

Accession Number: 20100104-0071.

Comment Date: 5 p.m. Eastern Time on Thursday, January 21, 2010.

Docket Numbers: ER10-537-000.

Applicants: Palmco Power MD, LLC.

Description: Palmco Power MD, LLC submits an amendment for the Petition for Acceptance of Initial Tariff, Waivers and Blanket Authority, FERC Electric Tariff, Original Volume 1.

Filed Dated: 01/05/2010.

Accession Number: 20100105-0205.

Comment Date: 5 p.m. Eastern Time on Tuesday, January 26, 2010.

Docket Numbers: ER10-539-000.

Applicants: Palmco Power OH, LLC.

Description: Palmco Power OH, LLC submits an amendment for the Petition for Acceptance of Initial Rate Schedule, Waivers and Blanket Authority.

Filed Dated: 01/05/2010.

Accession Number: 20100105-0206.

Comment Date: 5 p.m. Eastern Time on Tuesday, January 26, 2010.

Docket Numbers: ER10-540-000.

Applicants: Wabash Valley Power Association, Inc.

Description: Wabash Valley Power Association, Inc submits Original Sheet 1 et al. to FERC First Revised Rate Schedule 5 to be effective 3/11/10.

Filed Dated: 12/31/2009.

Accession Number: 20100104-0110.

Comment Date: 5 p.m. Eastern Time on Thursday, January 21, 2010.

Docket Numbers: ER10-541-000.

Applicants: Midwest Independent Transmission System, Xcel Energy Services Inc.

Description: Northern States Power Company et al. submits the Second Revised Sheet No. 2751 to FERC Electric Tariff, Fourth Revised Volume 1 to be effective 1/1/10.

Filed Dated: 12/31/2009.

Accession Number: 20100104-0069.

Comment Date: 5 p.m. Eastern Time on Thursday, January 21, 2010.

Docket Numbers: ER10-542-000.

Applicants: Southern California Edison Company.

Description: Southern California Edison Company submits the Service Agreement No. 31 et al. to FERC Electric Tariff, Second Revised Volume 6 et al.

Filed Dated: 12/31/2009.

Accession Number: 20100104-0066.

Comment Date: 5 p.m. Eastern Time on Thursday, January 21, 2010.

Docket Numbers: ER10-543-000.

Applicants: West Georgia Generating Company, LLC.

Description: Southern Power Company submits Notice of Cancellation of West Georgia's market based rate tariff, FERC Electric Tariff, First Revised Volume 1.

Filed Dated: 12/31/2009.

Accession Number: 20100104-0063.

Comment Date: 5 p.m. Eastern Time on Thursday, January 21, 2010.

Docket Numbers: ER10-544-000.

Applicants: Southern California Edison Company.

Description: Southern California Edison Company submits the amended Service Agreement for Wholesale Distribution Service No. 20 etc.

Filed Dated: 12/31/2009.

Accession Number: 20100104-0064.

Comment Date: 5 p.m. Eastern Time on Thursday, January 21, 2010.

Docket Numbers: ER10-545-000.

Applicants: Idaho Power Company.

Description: Idaho Power Company submits the Fourth Revised Service Agreement No. 159 to FERC Electric Tariff, First Revised Volume 6 to be effective 1/1/10.

Filed Dated: 12/31/2009.

Accession Number: 20100104-0065.

Comment Date: 5 p.m. Eastern Time on Thursday, January 21, 2010.

Docket Numbers: ER10-546-000.

Applicants: Southern California Edison Company.

Description: Southern California Edison Company submits the amended Project System Facilities Agreement with Blythe Energy LLC, Service Agreement No. 13 etc.

Filed Dated: 12/31/2009.

Accession Number: 20100104-0062.

Comment Date: 5 p.m. Eastern Time on Thursday, January 21, 2010.

Docket Numbers: ER10-551-000.

Applicants: Hartwell Energy Limited Partnership.

Description: Hartwell Energy Limited Partnership submits Notice of Cancellation of Rate Schedule FERC No. 1.

Filed Dated: 01/04/2010.

Accession Number: 20100104-0211.

Comment Date: 5 p.m. Eastern Time on Monday, January 25, 2010.

Docket Numbers: ER10-552-000.

Applicants: Heard County Power, LLC.

Description: Heard County Power, LLC submits Notice of Cancellation of Electric Tariff.

Filed Dated: 01/04/2010.

Accession Number: 20100104-0212.

Comment Date: 5 p.m. Eastern Time on Monday, January 25, 2010.

Docket Numbers: ER10-554-000.

Applicants: New York Independent System Operator, Inc.

Description: New York Independent System Operator, Inc. et al. submits an executed Small Generator Interconnection Agreement with National Grid, and Innovative Energy Systems, Inc.

Filed Dated: 01/05/2010.

Accession Number: 20100105-0210.

Comment Date: 5 p.m. Eastern Time on Tuesday, January 26, 2010.

Docket Numbers: ER10-555-000.

Applicants: New York Independent System Operator, Inc.

Description: New York Independent System Operator, Inc. et al. submits an executed Small Generator Interconnection Agreement with National Grid, and Chautauqua County.

Filed Dated: 01/05/2010.

Accession Number: 20100105-0211.

Comment Date: 5 p.m. Eastern Time on Tuesday, January 26, 2010.

Docket Numbers: ER10-556-000.

Applicants: Kansas City Power & Light Company.

Description: Kansas City Power & Light Company submits revised pages to the Facilities Use Agreement with enXco Develop.m.ent Corp.

Filed Dated: 01/05/2010.

Accession Number: 20100105-0208.

Comment Date: 5 p.m. Eastern Time on Tuesday, January 26, 2010.

Docket Numbers: ER10-557-000.

Applicants: Virginia Electric and Power Company.

Description: Virginia Electric and Power Company submits Third Revised Sheet 314F et al. to FERC Electric Tariff, Sixth Revised Volume 1 to PJM Interconnection, LLC's open-access transmission tariff etc.

Filed Dated: 01/05/2010.

Accession Number: 20100105-0209.

Comment Date: 5 p.m. Eastern Time on Tuesday, January 26, 2010.

Take notice that the Commission received the following electric securities filings:

Docket Numbers: ES10-22-000.

Applicants: Rochester Gas and Electric Corporation.

Description: Application of Rochester Gas and Electric Corporation for Authorization to Issue Short-Term Debt Under Section 204 of the Federal Power Act.

Filed Dated: 01/05/2010.

Accession Number: 20100105-5075.

Comment Date: 5 p.m. Eastern Time on Tuesday, January 26, 2010.

Docket Numbers: ES10-23-000.

Applicants: New York State Electric & Gas Corp.

Description: Application of New York State Electric & Gas Corporation for Authorization to Issue Short-Term Debt Under Section 204 of the Federal Power Act.

Filed Dated: 01/05/2010.

Accession Number: 20100105-5076.

Comment Date: 5 p.m. Eastern Time on Tuesday, January 26, 2010.

Docket Numbers: ES10-24-000.

Applicants: Central Maine Power Company.

Description: Application of Central Maine Power Company for Authorization to Issue Short-Term Debt Under Section 204 of the Federal Power Act.

Filed Dated: 01/06/2010.

Accession Number: 20100106-5041.

Comment Date: 5 p.m. Eastern Time on Wednesday, January 27, 2010.

Take notice that the Commission received the following open access transmission tariff filings:

Docket Numbers: OA08-61-003.

Applicants: Southwest Power Pool, Inc.

Description: Southwest Power Pool, Inc. submits an errata to its 11/2/09 filing proposing revisions to their transmission planning process etc.

Filed Dated: 12/30/2009.

Accession Number: 20091231-0043.

Comment Date: 5 p.m. Eastern Time on Wednesday, January 20, 2010.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-635 Filed 1-14-10; 8:45 am]

BILLING CODE 6717-01-P